DEPARTMENT OF HOUSING AND URBAN DEVELOPMENT

[Docket No. FR-5480-N-110]

Notice of Submission of Proposed Information Collection to OMB Application for Displacement/Relocation Assistance for Person

AGENCY: Office of the Chief Information Officer, HUD.

ACTION: Notice.

SUMMARY: The proposed information collection requirement described below has been submitted to the Office of Management and Budget (OMB) for review, as required by the Paperwork Reduction Act. The Department is soliciting public comments on the subject proposal.

Application for displacement/relocation for person (families, individuals, businesses, nonprofit organizations and farms) displaced by certain HUD programs. Periodically, HUD reviews a random sample of the Agency files to assure that persons did received the relocation payments to which they are entitled.

DATES: Comments Due Date: December 1, 2011.

ADDRESSES: Interested persons are invited to submit comments regarding this proposal. Comments should refer to the proposal by name and/or OMB approval Number (2506-0016) and should be sent to: HUD Desk Officer, Office of Management and Budget, New Executive Office Building, Washington, DC 20503; email OIRA-Submission@omb.eop.gov, fax: (202) 395-5806.

FOR FURTHER INFORMATION CONTACT: Colette Pollard, Reports Management Officer, QDAM, Department of Housing and Urban Development, 451 Seventh Street SW., Washington, DC 20410; email Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Application for Displacement/Relocation Assistance for Person.

OMB Approval Number: 2506-0016.

Form Numbers: HUD-40054, HUD-40055, HUD-40056, HUD-40057, HUD-40058, HUD 40058-S, HUD-40061, HUD-40072, HUD 40030.

Description of the Need for the Information and its Proposed Use

Application for displacement/relocation for person (families, individuals, businesses, nonprofit organizations and farms) displaced by certain HUD programs. Periodically, HUD reviews a random sample of the Agency files to assure that persons did received the relocation payments to which they are entitled.

Frequency of Submission: On occasion.

| Number of respondents | Annual responses | × | Hours per response | = | Burden hours
Reporting Burden | 37,800 | 1.634 |  | 0.906 |  | 56,000

Total Estimated Burden Hours: 56,000.

Status: Extension without change of a currently approved collection.

Authority: Section 3507 of the Paperwork Reduction Act of 1995, 44 U.S.C. 35, as amended.

Dated: October 26, 2011.
Colette Pollard,
Departmental Reports Management Officer, Office of the Chief Information Officer.

[FR Doc. 2011-28295 Filed 10-31-11; 8:45 am]

BILLING CODE 4210-67-P